DEPARTMENT OF COMMERCE

National Oceanic and Atmospheric Administration

[Doc. No. 150819745-5745-01]

RIN 0648-XE132

Notice of Availability of the Draft NOAA Commercial Space Policy

AGENCY: National Oceanic and Atmospheric Administration (NOAA), Commerce.

ACTION: Notice of availability of a Draft NOAA Commercial Space Policy; request for comments.

SUMMARY: As a science-based services agency, the National Oceanic and Atmospheric Administration (NOAA) strives to understand and predict changes in weather, climate, oceans, and coasts, and to provide critical environmental intelligence to the American public, decision makers, and our partners. NOAA accomplishes this, in part, through the use of observations obtained through a range of systems, including satellites, ships, ground, and in-situ networks.

NOAA's space-based Earth observations are both important and challenging to obtain. In recent years, the commercial sector has invested increasing amounts of capital and resources to develop new technologies, and to build, launch, and operate satellites and ground-based systems. In order to respond to an ever-growing demand for environmental information, NOAA seeks to maintain an observing enterprise that is flexible, responsive to evolving technologies, and economically sustainable, while supporting and upholding NOAA's strong commitment to public safety and the international data sharing system upon which NOAA depends for global data.

This policy establishes the broad principles for the use of commercial space-based approaches for NOAA's observational requirements, and opens a pathway for new industry to join the space-based Earth observation process. As a part of this effort, and to ensure we examine potential solutions, NOAA is seeking comments, suggestions, and innovative ideas from the public on Draft NOAA Commercial Space Policy. Through www.regulations.gov/#!docketDetail;D=NOAA-NMFS-2015-0109, the public can view the Draft NOAA Commercial Space Policy, submit ideas, review submissions from other parties, and make comments and collaborate on ideas.

All comments are welcome. In particular, NOAA would like comments on in the following areas:

1. Does this policy adequately support the continued success of NOAA's public safety mission?

2. Does this policy allow for the development of viable business models for potential providers of commercial data?

3. Does this policy sufficiently consider the impacts to the private weather industry, academia, and other stakeholders?

4. Does this policy appropriately reflect the importance of U.S. data policy and international data sharing commitments?

DATES: Comments must be received by 5:00 p.m. on October 1, 2015.

ADDRESSES: You may submit comments on this document, identified by NOAA-NMFS-2015-0109, by any of the following methods:

Electronic Submission: Submit all electronic public comments via the Federal e-Rulemaking Portal. Go to www.regulations.gov/#!docketDetail;D=NOAA-NMFS-2015-0109, click the “Comment Now!” icon, complete the required fields, and enter or attach your comments.

Mail: Submit written comments to: NOAA, c/o Mr. Troy Wilds, U.S. Department of Commerce, National Oceanic and Atmospheric Administration, Suite 51032, 14th and Constitution Avenue NW., Washington, DC 20230.

Instructions: Comments sent by any other method, to any other address or individual, or received after the end of the comment period, may not be considered by NOAA. All comments received are a part of the public record and will generally be posted for public viewing on www.regulations.gov without change. All personal identifying information (e.g., name, address, etc.), confidential business information, or otherwise sensitive information submitted voluntarily by the sender will be publicly accessible. NOAA will accept anonymous comments (enter “N/A” in the required fields if you wish to remain anonymous).

Additional information as well as instructions on how to submit comments can be found at the following Web site: www.regulations.gov/#!docketDetail;D=NOAA-NMFS-2015-0109. The Draft NOAA Commercial Space Policy can also be viewed here.

FOR FURTHER INFORMATION CONTACT: Mr. Troy Wilds, NOAA Office of the Under Secretary, U.S. Department Of Commerce, National Oceanic and Atmospheric Administration, Suite 51032, 14th and Constitution Avenue NW., Washington, DC 20230. (Phone: 202-482-3193, troy.wilds@noaa.gov).

SUPPLEMENTARY INFORMATION: The DRAFT NOAA Commercial Space Policy can be found at: www.regulations.gov/#!docketDetail;D=NOAA-NMFS-2015-0109.

Dated: August 21, 2015.
Manson K. Brown,
Deputy Administrator, National Oceanic and Atmospheric Administration.

[FR Doc. 2015-21148 Filed 8-31-15; 8:45 am]

BILLING CODE 3510-22-P